DEPARTMENT OF ENERGY

Federal Energy Regulatory Commission

[Project No. 13146-000]

Utah Independent Power; Notice of Preliminary Permit Application Accepted for Filing and Soliciting Comment, Motions To Intervene, and Competing Applications

July 9, 2008.

On March 24, 2008, Utah Independent Power filed an application, pursuant to section 4(f) of the Federal Power Act, proposing to study the feasibility of the Long Canyon Pumped Storage Project, to be located in the Long Canyon and the Little Valley in Grand County, Utah.

The proposed project would consist of: (1) Proposed earth and rock-filled dams, 130-foot-high and 3,470-foot-long and 200-foot-high and 790-foot-long, respectively, for the upper and lower reservoirs which would have water surface elevations of 6,010 and 2,400 feet, MSL, respectively, (2) a proposed powerhouse containing three generating units having a total installed capacity of 800 megawatts, (3) a proposed 22,400-foot-long concrete/steel penstock, (4) a proposed 40-mile-long, 250-kV transmission line, and (5) appurtenant facilities. The project would have an annual generation of 1,077 gigawatt-hours that would be sold to a local utility.

Applicant Contact: Mr. Frank L. Mazzone, President, Utah Independent Power, 957 Fairway Drive, Sonoma, CA 95476; phone: 707-996-2573. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13146) in the docket number field to access the document. For assistance, call toll-free 1-866-208-3372.

Kimberly D. Bose,
Secretary.

[FR Doc. E8-16204 Filed 7-15-08; 8:45 am]

BILLING CODE 6717-01-P